FEDERAL ELECTION COMMISSION

Notice of Sunshine Act Meetings

Special Executive Session: Tuesday, March 28, 2006, 10 a.m. This Meeting Was Closed To The Public Pursuant To 11 CFR 2.4(b)(1) and 2.4(b)(2).

Previously Scheduled Open Meeting on Wednesday, March 29, 2006: The Meeting Hour Was Changed To 2 p.m.

Date and time: Friday, April 7, 2006 at 10 a.m.

Place: 999 E Street, NW., Washington, DC (Ninth Floor)

Status: This Meeting Will Be Open To The Public.

Items To Be Discussed:

Correction and Approval of Minutes.

Final Rules on Coordinated Communications.

Routine Administrative Matters.

Date and time: Monday, April 10, 2006 at 10 a.m.

Place: 999 E Street, NW., Washington, DC (Ninth Floor)

Status: This Meeting Will Be Open To The Public.

Items To Be Discussed:

Advisory Opinion 2006-07: Representative J. D. Hayworth on behalf of J. D. Hayworth for Congress.

Advisory Opinion 2006-08: Matthew Brooks by counsel, Craig Engle.

Advisory Opinion 2006-09: The American Institute for Certified Public Accountants and The American Institute for Certified Public Accounts Political Action Committee by counsel, Russell L. Smith.

Audit Status—Title 26.

Open Meeting, Continued:

Final Audit Report on CWA COPE Political Contributions Committee.

Routine Administrative Matters.

For Further Information Contact: Mr. Robert Biersack, Press Officer, Telephone: (202) 694-1220.

Mary W. Dove,
Secretary of the Commission

[FR Doc. 06-3153 Filed 3-29-06; 10:38 am]

BILLING CODE 6715-01-M